DEPARTMENT OF TRANSPORTATION

[Docket No. DOT-OST-2022-0096]

Enhancing the Safety of Vulnerable Road Users at Intersections; Request for Information; Extension of Comment Period

AGENCY: Department of Transportation (DOT).

ACTION: Notice; Request for information (RFI); extension of comment period.

SUMMARY: On September 16, 2022, the Office of the Assistant Secretary for Research and Technology (OST-R) of the Department of Transportation (DOT) published in the Federal Register a request for information seeking comments on improving the safety of pedestrians, bicyclists, and other vulnerable road users (VRUs) at roadway intersections. That request established a 30-day comment period closing on October 17, 2022. DOT is extending the public comment period until November 15, 2022.

DATES: The comment period for the notice published on September 16, 2022 (87 FR 57019) is extended. The due date for submitting comments is November 15, 2022.

ADDRESSES: Please submit any written comments to Docket Number DOT- OST-2022-0096 electronically through the Federal eRulemaking Portal at https://regulations.gov. Go to https://regulations.gov and select “Department of Transportation (DOT)” from the agency menu to submit or view public comments. Note that, except as provided below, all submissions received, including any personal information provided, will be posted without change and will be available to the public on https://www.regulations.gov. You may review DOT's complete Privacy Act Statement in the Federal Register published on April 11, 2000 (65 FR 19477) or at https://www.transportation.gov/privacy.

FOR FURTHER INFORMATION CONTACT: For further information contact Mr. Timothy A. Klein, Director, Technology Policy and Outreach, Office of the Assistant Secretary for Research and Technology (202-366-0075) or by email at timothy.klein@dot.gov.

SUPPLEMENTARY INFORMATION: DOT published a request for information in the Federal Register on September 16, 2022 (87 FR 57019) seeking comments on improving the safety of pedestrians, bicyclists, and other vulnerable road users (VRUs) at roadway intersections. The public comment period is extended to November 15, 2022. All other information in the notice from September 16, 2022 remains the same.

Issued in Washington, DC, on October 11, 2022.
Robert C. Hampshire,
Deputy Assistant Secretary for Research and Technology.

[FR Doc. 2022-22428 Filed 10-14-22; 8:45 am]

BILLING CODE 4910-9X-P